DEPARTMENT OF THE INTERIOR

Bureau of Land Management

[CO-600-00-2810-PG]

Northwest Colorado Resource Advisory Council Meeting

AGENCY: Bureau of Land Management, Interior.

ACTION: Notice of meeting.

SUMMARY: The next meeting of the Northwest Colorado Resource Advisory Council will be held on Friday, May 19, 2000, at the Bureau of Land Management in Grand Junction, Colorado.

DATES: Friday, May 19, 2000.

ADDRESSES: Bureau of Land Management, 2815 H Road, Grand Junction, Colorado 81506.

FOR FURTHER INFORMATION, CONTACT: Lynn Barclay, Bureau of Land Management (BLM), 455 Emerson Street, Craig, Colorado 81625; Telephone (970) 826-5096.

SUPPLEMENTARY INFORMATION: The Northwest Resource Advisory Council will meet on Friday, May 19, 2000, at the Bureau of Land Management, 2815 H Road, Grand Junction, Colorado. The meeting will start at 9 a.m. and includes discussion of mission of Wildlife and Land Exchange subcommittees, subcommittee assignments, working with United States Forest Service, and defining meeting procedures and processes.

The meeting is open to the public. Interested persons may make oral statements at the meetings or submit written statements at the meeting. Per-person time limits for oral statements may be set to allow all interested persons an opportunity to speak. Summary minutes of council meetings are maintained at the Bureau of Land Management Offices in Grand Junction and Craig, Colorado. They are available for public inspection and reproduction during regular business hours within thirty (30) days following the meeting.

Dated: April 3, 2000.
Mary E. Trautner,
Acting Little Snake Field Office Manager.

[FR Doc. 00-8684 Filed 4-6-00; 8:45 am]

BILLING CODE 4310-JB-P